FEDERAL COMMUNICATIONS COMMISSION

47 CFR Parts 73 and 76

[MB Docket No. 16-161; FCC 17-3]

Revisions to Public Inspection File Requirements—Broadcaster Correspondence File and Cable Principal Headend Location

AGENCY: Federal Communications Commission.

ACTION: Final rule; announcement of effective date.

SUMMARY: In this document, the Commission announces that the Office of Management and Budget (OMB) has approved, for a period of three years, some of the information collections associated with the Commission's decision, in Report and Order, Revisions to Public Inspection File Requirements—Broadcaster Correspondence File and Cable Principal Headend Location. Specifically, OMB has approved the Commission's decision to eliminate two public inspection file requirements: the requirement that commercial broadcast stations retain in their public inspection file copies of letters and emails from the public; and the requirement that cable operators maintain for public inspection the designation and location of the cable system's principal headend. This document is consistent with the Report and Order, which stated that the Commission would publish a document in the Federal Register announcing OMB approval and the effective date of these rule changes.

DATES: The amendments to 47 CFR 73.3526; 76.5(pp)(2); 76.1700; and 76.1708, published at 82 FR 11406 on February 23, 2017 are effective June 29, 2017.

FOR FURTHER INFORMATION CONTACT: For additional information contact Cathy Williams, Cathy.Williams@fcc.gov, (202) 418-2918.

SUPPLEMENTARY INFORMATION: This document announces that, on March 24, 2017 and May 25, 2017, OMB approved some of the information collection requirements contained in the Commission's Report and Order, FCC 17-3, published at 82 FR 11406, February 23, 2017. The OMB Control Numbers are 3060-0214, 3060-0316, and 3060-0649. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Numbers, 3060-1207, 3060-0214, and 3060-0316, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval, on March 24, 2017 and May 25, 2017, for the new information collection requirements contained in the Commission's rules at 47 CFR 73.3526; 76.5(pp)(2); 76.1700; and 76.1708. Under 5 CFR part 1320, an agency may not conduct or sponsor a collection of information unless it displays a current, valid OMB Control Number. No person shall be subject to any penalty for failing to comply with a collection of information subject to the Paperwork Reduction Act that does not display a current, valid OMB Control Number. The OMB Control Numbers are 3060-0214, 3060-0316, and 3060-0649.

The foregoing notice is required by the Paperwork Reduction Act of 1995, Public Law 104-13, October 1, 1995, and 44 U.S.C. 3507.

The total annual reporting burdens and costs for the respondents are as follows:

OMB Control Number: 3060-0214.

OMB Approval Date: May 25, 2017.

OMB Expiration Date: May 31, 2020.

Title: Sections 73.3526 and 73.3527, Local Public Inspection File, §§ 73.1212, 76.1701 and 73.1943, Political Files.

Form Number: N/A.

Type of Review: Revision of a currently approved collection.

Respondents: Business or other for profit entities; Not for profit institutions; State, local or Tribal government.

Number of Respondents and Responses: 41,695 respondents; 63,364 responses.

Estimated Time per Response: 1-52 hours per response.

Frequency of Response: On occasion reporting requirement, Recordkeeping requirement, Third party disclosure requirement.

Obligation To Respond: Required to obtain or retain benefits. The statutory authority for this information collection is contained in sections 151, 152, 154(i), 303, 307, and 308 of the Communications Act of 1934, as amended.

Total Annual Burden: 2,073,048 hours.

Total Annual Cost: $3,667,339.

Nature and Extent of Confidentiality: There is no need for confidentiality with this collection of information.

Privacy Impact Assessment: No impact(s).

Needs and Uses: On January 31, 2017, the Commission adopted a Report and Order (“Public Inspection File R&O”) in MB Docket No. 16-161, FCC 17-3, eliminating the requirement in §§ 73.1202 and 73.3526(e)(9) of its rules that commercial broadcast stations retain in their public inspection file copies of letters and emails from the public. The Commission concluded that this component of its public inspection file rules involves documents that do not need to be made available to the general public and that eliminating this requirement would reduce the burden of maintaining the public inspection file on commercial broadcasters. The Commission's goal is also to permit commercial television and radio broadcasters to cease maintaining a local public inspection file if they post all public file material to the online public file database and provide online access via their own Web site to back-up political file material. The Commission has previously adopted this option for other entities subject to our online public inspection file requirements. Because the correspondence file cannot be made available online for privacy reasons, removing this requirement would permit commercial broadcasters to elect to make their entire public inspection file available online and cease maintaining a local public file, thereby further reducing overall regulatory burdens on these entities.

OMB Control Number: 3060-0316.

OMB Approval Date: March 24, 2017.

OMB Expiration Date: March 31, 2020.

Title: Section 76.5, Definitions, § 76.1700, Records To Be Maintained Locally by Cable System Operators; § 76.1702, Equal Employment Opportunity; § 76.1703, Commercial Records on Children's Programs; § 76.1707, Leased Access; § 76.1711, Emergency Alert System (EAS) Tests and Activation.

Form Number: Not applicable.

Type of Review: Revision of a currently approved collection.

Respondents: Business or other for-profit entities.

Number of Respondents and Responses: 3,000 respondents; 3,000 responses.

Estimated Time per Response: 18 hours.

Frequency of Response: Recordkeeping requirement.

Obligation To Respond: Required to obtain or retain benefits. The statutory authority for this information collection is contained in sections 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, 573 of the Communications Act of 1934, as amended.

Total Annual Burden: 54,000 hours.

Total Annual Cost: $591,840.

Nature and Extent of Confidentiality: There is no need for confidentiality with this collection of information.

Privacy Impact Assessment: No impact(s).

Needs and Uses: On January 31, 2017, the Commission adopted a Report and Order (“Public Inspection File R&O”) in MB Docket No. 16-161, FCC 17-3, eliminating the requirement in §§ 76.5(pp) and 76.1700(a)(6) of its rules that cable systems retain the location and designation of the principal headend in their public file. This action reduces public inspection file requirements for these entities. However, because principal headend location information must be accessible to the Commission, broadcast television stations, and franchisors, cable systems will be required to provide principal headend location information to these entities upon request. In lieu of responding to individual requests for such information, operators may alternatively elect voluntarily to provide this information to the Commission for inclusion in the Commission's online public inspection file (“OPIF”) database and may elect to make the information publicly available there.

OMB Control Number: 3060-0649.

OMB Approval Date: May 25, 2017.

OMB Expiration Date: May 31, 2020.

Title: Section 76.1601, Deletion or Repositioning of Broadcast Signals; § 76.1617, Initial Must-Carry Notice; § 76.1607, Principal Headend.

Form Number: N/A.

Type of Review: Revision of a currently approved collection.

Respondents: Business and other for-profit entities; Not for profit institutions.

Number of Respondents and Responses: 3,300 respondents; 3,950 responses.

Estimated Time per Response: 0.5 hours.

Frequency of Response: On occasion reporting requirement, Third party disclosure requirement, Recordkeeping requirement.

Obligation To Respond: Required to obtain or retain benefits. The statutory authority for this information collection is contained in section 4(i) of the Communications Act of 1934, as amended.

Total Annual Burden: 2,050 hours.

Total Annual Cost: No cost.

Nature and Extent of Confidentiality: There is no need for confidentiality with this collection of information.

Privacy Impact Assessment: No impact(s).

Needs and Uses: On January 31, 2017, the Commission adopted a Report and Order (“Public Inspection File R&O”) in MB Docket No. 16-161, FCC 17-3, eliminating the requirement in Section 76.1708 of its rules requiring the operators of cable television systems to maintain for public inspection the designation and location of its principal headend. If an operator changed the designation of its principal headend, that new designation was also required to be included in its public file. The R&O removed and reserved this rule section (47 CFR 76.1708).

Federal Communications Commission.
Marlene H. Dortch,
Secretary, Office of the Secretary.

[FR Doc. 2017-13623 Filed 6-28-17; 8:45 am]

BILLING CODE 6712-01-P